DEPARTMENT OF AGRICULTURE

Forest Service

Caribou-Targhee National Forest; Ashton/Island Park Ranger Station; Idaho; Buffalo TSI

AGENCY: Forest Service, USDA.

ACTION: Notice of intent to prepare an environmental impact statement.

SUMMARY: This project proposes to reduce or prolong the overall susceptibility to mountain pine beetle attacks and crown fires in a subset of previously harvested areas within the analysis area. Precommercial thinning is proposed so trees within these stands maintain diameter and height growth as well as increased crown development and to move this project area toward meeting specific goals, and objectives outlined in the Targhee National Forest Revised Forest Management Plan (RFP) and the Properly Functioning Condition Assessment (PFC).

DATES: Comments concerning the scope of the analysis must be received by March 25, 2016. The draft environmental impact statement is expected July 2016 and the final environmental impact statement is expected January 2017.

ADDRESSES: Send written comments to Mike Alfieri, Island Park Ranger Station, 3726 Highway 20, Island Park, ID 83429. Comments may also be sent via email to comments-intermtn-caribou-targhee-ashton-islandpark@fs.fed.us, or via facsimile to 208-558-7812.

FOR FURTHER INFORMATION CONTACT: Mike Alfieri, Forestry Technician 208-558-4210 or malfieri@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of this project is to reduce or prolong the overall susceptibility to mountain pine beetle attacks and crown fires in a subset of previously harvested areas within the analysis area. The purpose is to also to provide for a variety of resource products now and in the future. All of the areas identified for treatment were harvested using the clearcut method over 20 years ago and are regenerated with hundreds and even thousands of trees per acre, primarily of lodgepole pine. Precommercial thinning is proposed so trees within these stands maintain diameter and height growth as well as increased crown development and to move this project area toward meeting specific goals, and objectives outlined in the Targhee National Forest Revised Forest Management Plan (RFP) and the PFC. These include:

1. Use vegetation management to achieve a broad array of multiple-use and ecosystem management objectives, including forest health, structure, composition, and distribution in larger landscapes. . . . Develop long term vegetation and density management strategies to reduce the risk of a future catastrophic bark beetle epidemic (RFP III-12). For the Buffalo project area this goal has been further refined as leaving approximately 195 trees per acre or a 15 by 15 foot overall tree spacing to prolong the susceptibility to future mountain pine beetle attacks.

2. Lodgepole pine stands in Watershed 10 would provide a variety of forest products now and in the future. More dense stands would provide smaller diameter products such as post and poles; less dense stands would provide larger diameter trees that could be harvested as sawtimber in the future. Stands that remain susceptible to crown fire or mountain pine beetle would eventually die providing firewood. For the Buffalo project, firewood, post and poles could be a byproduct of the proposed treatments. In the future, the areas thinned with this proposal would provide sawtimber available for future harvest (RFP III 31-33).

3. The likelihood of future landscape-level crown fire will be reduced in order to protect human life and safety, developments, structures, and sensitive resource values (RFP III-6). The roadside fuelbreak along a portion of Fish Creek Road would increase chances that firefighters will be able to safely engage either unwanted wildfires or fires for resource benefit. For the Buffalo project area, the various treatments would reduce spacing between tree canopies to reduce the potential of crown fire; and ground fuels will be minimized to decrease the potential for a surface fire and for a surface fire to reach the crowns.

The desired condition for this project is outlined in the three goals stated above. The need for this project is to bring this landscape closer to meeting these desired conditions.

With reference to susceptibility to mountain pine beetle, thinned lodgepole stands have more open grown conditions which leave tree stand's microclimate less desirable for mountain pine beetle. Wind speeds can increase within thinned stands, disrupting pheromone plumes that let other beetles know there is available food. Efforts to prevent undesirable levels of bark beetle-caused tree mortality must change susceptibility through reductions in tree competition, disruption of pheromone plumes thus negatively affecting host-finding, and reduction in the fecundity, fitness and survivorship of target bark beetle species. Less dense trees have thicker phloem which favors mountain pine beetle production but this strategy also increases resistance of individual trees through increased tree vigor allowing the trees the energy or turgor pressure to expel the beetle. Trees of low vigor related to a higher relative stand density caused by competition for water and nutrients are more susceptible to bark beetle attack. Areas that are not precommercially thinned and have very high densities of lodgepole pine are also less susceptible for mountain pine beetle because of reduced phloem thickness.

Watershed 10 will have a variety of lodgepole pine stands that would provide for various forest products now and in the future. Stands that have been previously precommercial thinned to leave approximately 360 trees per acre would provide sawtimber when the lodgepole pine matures. If these stands are not harvested before they reach 80 to 100 years old, they may be susceptible to mountain pine beetle attack, die and become available for firewood. The lodgepole pine stands that would not be precommercially thinned could provide post and poles now and into the future. Areas that are proposed for precommercial thinning through this project could provide sawtimber when the lodgepole pine matures. Post, poles and firewood would be a byproduct of the thinning when the project is implemented.

In lodgepole pine-dominated stands, fire can behave in two different extremes. Typically, fire creeps and smolders along the forest floor shaded by the dense tree canopy and hindered by the lack of ground fuels. However, under dry and windy conditions with heavy dead fuel accumulations, fires can spread through those surface fuels and quickly get up into the canopy. These fires are typically high-intensity, stand-replacing fires that do not occur often, but burn many acres and are very difficult to extinguish when they do occur. If left untreated, the current lodgepole pine-dominated stands within this project would over time create the surface fuels necessary to allow fire to get into the canopy and potentially produce crown fire that is so difficult to suppress. The roadside fuels reduction project would enhance a fuel break along a key Forest Service Road, Fish Creek (082) to increase chances that firefighters will be able to safely engage either unwanted wildfires or fires for resource benefit. Roadside fuel breaks located in areas where fire can be safely restored to the landscape would contribute to maintaining fire as a disturbance on this landscape as well as allow safe effective wildfire response with minimal exposure to firefighters. This fuel break is located within the wildland urban interface (WUI) and would remove surface, ladder, and crown fuels.

Proposed Action

The proposed action would precommercially thin approximately 3900 acres located within the Buffalo River Watershed to achieve the desired conditions stated in the Purpose and Need. Areas identified to be thinned are past harvest units composed primarily of lodgepole pine presently stocked at greater than 500 trees per acre.

Precommercial Thinning Units

• Trees would be thinned to a 15 by 15 foot spacing with the exception of the Aquatic Influence Zone (AIZ).

• Within 25 feet of any stream or AIZ, Reduce leave tree spacing from 15 by 15 foot spacing to 12 by 12 foot spacing, unless approved by a hydrologist or fish biologist.

• Within riparian areas and Aquatic Influence Zones (AIZ) felled trees would be left where they fall and felled in a way that protects residual vegetation from damage.

Roadside fuel break—Within the 600 feet (300 feet on either side of the road) of the Fish Creek Road (FS 082).

• Thin to a 20 by 20 foot spacing.

• Within 25 feet of any stream or aquatic influence zone (AIZ), reduce leave tree spacing to 12 by 12 feet, unless approved by a hydrologist or fish biologist.

• Masticate remaining slash. Masticated chips would not exceed a depth of three inches.

• Areas designated for tree removal will not impact current road closures.

• Pioneered roads will be rehabilitated once trees have been removed.

• Within AIZs, do not remove (for pile burning or mastication) dead and down material greater than 6 inches or less than 2 inches in diameter.

• Within AIZ, lop and scatter material that is less than 2 inches in diameter (i.e. do not remove for pile burning or mastication).

• Where feasible, do not pile burn or masticate within AIZ. If practicable, pull material completely outside of the AIZ to pile burn or masticate. If not feasible, pile material as far from stream channels as practical given the local terrain.

• No heavy equipment operation (e.g. masticator, skidder, etc.) shall occur in the AIZ off of existing routes unless approved by a soil scientist or hydrologist.

• Within AIZ, minimize the mechanized treatment of wood residue. All debris associated with treatments shall be left or placed in such a manner as to prevent their entry into streams.

• Do not burn material within the bankfull channel.

• Fell trees in a way that protects residual vegetation from damage. Minimize ground-disturbing activities.

• Avoid heavy equipment use on slopes greater than 40 percent.

• Rutting in skid trails should not exceed six to eight inches in depth (wet condition) over more than ten percent of a designated skid trail system. No yarding operations should take place when ground conditions are wet enough that there is a risk of such rutting. Avoid operations if soil is saturated.

• No new roads, skid trails, or landings will be constructed within the AIZ until appropriate standards for construction, maintenance, and operations are in place. Use previously disturbed areas for landings. All newly constructed landings, skid trails, and temporary roads shall be obliterated. No temporary stream crossings are necessary.

Design Criteria Common to All Treatments

• Trees remaining following thinning would have straight stems, well-formed crowns, be free of insect or disease damage, vigorous annual terminal growth, and crown ratio of 40 percent or more.

• To promote species diversity, conifers other than lodgepole pine would remain within the treatment units except in aspen clumps.

• No aspen would be cut.

• No five needle pines would be cut.

• All conifers except five needle pines would be cut within two aspen tree heights of an aspen clump (3 or more aspen trees).

• Cutting of trees would be accomplished by crews using chain saws.

• Trees on the ground would provide opportunities to gather firewood, post and poles anywhere within the treatment units. Those removing products can only drive within 300 feet of either side of an open or gated forest service system road to retrieve their wood.

• Each treatment would be sequenced as follows: Cut trees, remove products removal such as firewood, post or poles would occur for not more than three years, treat slash.

• There would be no new road construction or reconstruction. No decommissioned roads would be opened for the project. Approximately 13.82 miles of restricted (gated roads) would be used to access thinning units. The gated roads would only be used by people associated with the thinning project and the gates would remain locked at all times.

• Following precommercial thinning operations, gated roads (FS Roads 083, 105, 448, 447 and 116) would be opened as necessary to firewood, post and pole removal within the treatment units. Those removing firewood, post and poles can only drive within 300 feet of either side of an open or gated forest service system road to retrieve their wood.

• All open and restricted gated roads within or adjacent to the units shall be kept free of felled trees.

• No thinning activities would occur before July 1 to reduce the effects to nesting migratory birds.

• All contractors and people involved with the proposed project must comply with the applicable food storage special order in effect when the work is performed.

• There is one pond located within the project area. No precommercial thinning will occur within 300 feet of the pond to avoid adverse effects to amphibians.

• Generally strive to maintain fine organic matter over at least 50 percent of the area (RFP, pages III-6 & 7).

• Five to ten tons of woody debris would remain on the ground following treatments.

• Areas of pile burning will be evaluated and monitored to determine if seeding or additional rehabilitation is warranted to minimize weed spread and maintain soil productivity.

• Adjust chipping size and depth to provide a variation of chip depth (maximum depth of three inches including patches of unchipped) and chip size to allow differing decomposition rates and soil moisture retention lengths and to avoid negatively impacting available soil nitrogen.

• Locate public firewood as close to the existing roads as possible (material resulting from thinning).

• Plan for burning of piles to occur when soils are wet from snow or rain to limit impacts on soil organic matter, physical properties and soil organisms.

• Routes pioneered into the project area will need to be evaluated for the most appropriate rehabilitation and closure methods. Options may include: Leaving additional slash over the area, roughing up the segment where the route departs from a system road or mastication perpendicular to the segment.

Possible Alternatives

At a minimum, the proposed action and a no action alternative would be analyzed.

Responsible Official

The Ashton/Island Park District Ranger is the responsible official and will make the decision.

Nature of Decision To Be Made

In the decision, the responsible official will decide whether or not to precommercially thin the identified stands of trees.

Scoping Process

This notice of intent initiates the scoping process, which guides the development of the environmental impact statement.

The purpose of this comment period is to provide an opportunity for the public to provide early and meaningful participation on a proposed action prior to a decision being made by the Responsible Official. It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Public comment on this analysis is pursuant to the pre-decisional process described at 36 CFR 218, Subparts A and B.

Only those who comment and meet all the requirements contained in 36 CFR 218.25(a)(3) will have standing to object to the project during the 45 day pre-decisional objection period. The objection period will occur following the distribution of the final EIS and draft Record of Decision. Comments submitted in response to this solicitation must meet the definition of “specific written comments” as defined at 36 CFR 218.2, particularly “. . . specific written comments should be within the scope of the proposed action, have a direct relationship to the proposed action, and must include supporting reasons for the responsible official to consider.”

Dated: February 18, 2016.
Elizibeth Davy,
District Ranger.

[FR Doc. 2016-03868 Filed 2-23-16; 8:45 am]

BILLING CODE 3411-15-P